ENVIRONMENTAL PROTECTION AGENCY

[EPA-HQ-OPPT-2021-0728; FRL-13089-01-OMS]

Agency Information Collection Activities; Submission to the Office of Management and Budget for Review and Approval; Comment Request; Consolidation of Certain Reporting and Recordkeeping Under Section 8 of the Toxic Substances Control Act (TSCA) (Renewal)

AGENCY: Environmental Protection Agency (EPA).

ACTION: Notice.

SUMMARY: The EPA has submitted an information collection request (ICR), Consolidation of Certain Reporting and Recordkeeping Under Section 8 of the Toxic Substances Control Act (TSCA) (EPA ICR Number 2703.02, OMB Control Number. 2070-0224) for review and approval in accordance with the Paperwork Reduction Act. This is a proposed extension of the ICR, which is currently approved through November 30, 2025. Public comments were previously requested via the Federal Register on May 9, 2025 during a 60-day comment period. This notice allows for an additional 30 days for public comments.

DATES: Comments may be submitted on or before December 22, 2025.

ADDRESSES: Submit your comments, referencing Docket ID Number EPA-HQ-OPPT-2021-0728, to EPA online using www.regulations.gov (our preferred method), or by mail to: EPA Docket Center, Environmental Protection Agency, Mail Code 2822T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (Mail Code 7602M), Office of Chemical Safety and Pollution Prevention, Environmental Protection Agency, 1200 Pennsylvania Ave. NW, Washington, DC 20460; telephone number: 202-566-1204; email address: sleasman.katherine@epa.gov.

SUPPLEMENTARY INFORMATION: This is a proposed extension of the ICR, which is currently approved through November 30, 2025. An agency may not conduct or sponsor and a person is not required to respond to a collection of information unless it displays a currently valid OMB control number.

Public comments were previously requested via the Federal Register on May 9, 2025, during a 60-day comment period (90 FR 19715). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers reporting and recordkeeping requirements in TSCA section 8, for persons who manufacture, import, or process chemical substances, mixtures, or categories, or distribute them in commerce. Data collected helps EPA evaluate the potential for human health and environmental risks caused by the manufacture, processing, and distribution in commerce of chemical substances, mixtures, or categories. TSCA section 8(a) Preliminary Assessment Information Rule (PAIR) requires manufacturers and importers of certain chemical substances to submit information about production, use, and/or exposure-related data. EPA is also consolidating two TSCA section 8(a) chemical specific rules into this ICR: “Chemical-Specific Rules under the Toxics Substances Control Act Section 8(a); Certain Nanoscale Materials” (OMB Control No. 2070-0194), and “TSCA Section 8(a) Reporting and Recordkeeping Requirements for Asbestos” (OMB Control No. 2070-0222). Under TSCA section 8(c), persons who manufacture, import, process, or distribute in commerce any chemical substance or mixture must keep records of significant adverse reactions to health or the environment. Allegations of adverse reactions to the health of employees be kept for thirty years, and all other allegations be kept for five years. Finally, under TSCA section 8(d), persons, who manufacture, import, process, or distribute in commerce (or propose to manufacture, import, process, or distribute in commerce) certain chemical substances and mixtures, are required to submit to EPA lists and copies of health and safety studies which relate to health and/or environmental effects of the chemical substances and mixtures.

Form numbers: 7710-25, 7710-35, 7710-51, 9600-032 and 9600-07.

Respondents/affected entities: Manufacturers (including imports) or processors of chemical substances and/or mixtures.

Respondent's obligation to respond: Mandatory (40 CFR 703; 704; 712; 716; 717; 766, and 792).

Estimated number of respondents: 13,595 (total).

Frequency of response: On occasion.

Total estimated burden: 106,523 hours (per year). Burden is defined at 5 CFR 1320.3(b).

Total estimated cost: $9,138,944 (per year), which includes $0 annualized capital or operation & maintenance costs.

Changes in the Estimates: This increase is due to the fact that this ICR is absorbing two previously independent collections (647 hours from OMB Control Numbers 2070-0194 and 2070-0222). This ICR renewal incorporates an increase in burden identified in a recent TSCA section 8(d) rulemaking, published on December 13, 2024 (89 FR 100756), which incorporated an updated burden estimate arising out of a requirement to report studies showing any measurable content of the subject chemicals in response to information provided by stakeholders. This increase in burden would apply only where the Agency, via the applicable regulations, requires reporting of studies at any measurable content. EPA does not anticipate promulgating 8(d) rules requiring such reporting in this ICR's renewal period. Thus, despite this increase in burden being incorporated into this ICR, any 8(d) rules promulgated during this renewal period will not reflect this increase in burden. These changes are program adjustments.

Courtney Kerwin,
Director, Information Engagement Division.

[FR Doc. 2025-20413 Filed 11-19-25; 8:45 am]

BILLING CODE 6560-50-P